DEPARTMENT OF LABOR

Employment and Training Administration

[TA-W-70,466]

DMAX, LTD, LLC; A Joint Venture Between General Motors and Isuzu Dayton, OH; Notice of Negative Determination Regarding Application for Reconsideration

By application dated November 6, 2009, International Union of Electronic, Electrical, Salaried, Machine and Furniture Workers—Communications Workers of America (IUE-CWA), Local 755 requested administrative reconsideration of the Department's negative determination regarding eligibility to apply for Trade Adjustment Assistance (TAA), applicable to workers and former workers of the subject firm. The denial notice was signed on October 29, 2009 and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination, based on the finding that imports of light duty diesel engines did not contribute to worker separations at the subject facility and there was no shift in production from the subject firm to foreign country during the period under investigation.

The petitioner stated that General Motors is “getting out of the light truck business” and that the workers of the subject firm should be eligible for TAA due to the changes in the program.

The investigation revealed that workers of DMAX Ltd., LLC, Dayton, Ohio produced light duty diesel engines. The investigation also revealed that worker separations at the subject facility were not caused by increased imports of light duty diesel engines into the United States nor by a shift in production of light duty diesel engines from the subject facility to a foreign country. DMAX, Ltd, LLC did not import light duty diesel engines and did not shift production abroad. The Department surveyed subject firm's major customer regarding its purchases of light duty diesel engines in 2007, 2008, January through May 2008 and January through May 2009. The survey revealed no imports during the relevant period.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 2nd day of December, 2009.
Elliott S. Kushner,
Certifying Officer, Division of Trade Adjustment Assistance.

[FR Doc. E9-29500 Filed 12-10-09; 8:45 am]

BILLING CODE 4510-FN-P